DEPARTMENT OF STATE

22 CFR Part 41

[Public Notice: 9439]

RIN 1400-AD17

Visas: Documentation of Nonimmigrants Under the Immigration and Nationality Act, as Amended

AGENCY: Department of State.

ACTION: Interim final rule; correction.

SUMMARY: The Department of State published a Federal Register interim final rule on February 4, 2016, in Volume 81, No. 23, page 5906. The document contains an error in the Regulatory Findings. This document corrects the rule by replacing the text, “included elsewhere in this edition of the Federal Register” with “published in the Federal Register on February 8, 2016, 81 FR 6430.” There is also a correction in the ADDRESSES section, to provide the correct public notice number to find the rule to submit comments on www.regulations.gov.

DATES: This correction is effective on February 19, 2016. Written comments must be received on or before April 4, 2016.

FOR FURTHER INFORMATION CONTACT: Paul-Anthony L. Magadia, U.S. Department of State, Visa Services, Legislation and Regulations Division, Washington, DC 20006, 202-485-7641; email: magadiapl@state.gov.

SUPPLEMENTARY INFORMATION: The Department of State published an interim final rule on February 4, 2016 (81 FR 5906); this document corrects text in the ADDRESSES section and in the discussion of Executive Order 12866.

Correction

In the FR Doc 2016-02191, appearing on page 5906 in the Federal Register of February 4, 2016 (81 FR 5906):

1. In the second column of page 5906, third item under ADDRESSES, the term “XXXX” is corrected to read “9428.”

2. In the third column of page 5907, the first sentence of the discussion regarding “Executive Order 12866: Regulatory Review” is corrected to read: “The costs of this rulemaking are discussed in the companion DHS rule, RIN 1651-AB09, published in the Federal Register on February 8, 2016, 81 FR 6430.”

Dated: February 9, 2016.
David S. Newman,
Director of Legal Affairs, Visa Services, Bureau of Consular Affairs, U.S. Department of State.

[FR Doc. 2016-02962 Filed 2-11-16; 8:45 am]

BILLING CODE 4710-06-P